DEPARTMENT OF THE INTERIOR

Fish and Wildlife Service

[FWS-R1-R-2009-N110]; [1265-0000-10137-S3]

Guam National Wildlife Refuge, Yigo, Guam

AGENCY: Fish and Wildlife Service, Interior.

ACTION: Notice of availability: draft comprehensive conservation plan and environmental assessment; notification of open house meetings; request for comments.

SUMMARY: We, the U.S. Fish and Wildlife Service (Service), announce the availability of our draft comprehensive conservation plan and environmental assessment (Draft CCP/EA) for the Guam National Wildlife Refuge (Refuge) for public review and comment. It describes our proposal for managing the Refuge for the next 15 years. In the Draft CCP/EA we describe alternatives, including our preferred alternative, to manage the Refuge for the 15 years following approval of the final CCP.

DATES: To ensure consideration, we need to receive your written comments by August 24, 2009.

We will hold two public meetings; see SUPPLEMENTARY INFORMATION for details.

ADDRESSES: Additional information concerning the Refuge can be found on the Internet at http://www.fws.gov/guam/. You may submit comments, requests for more information, or request for copies of the Draft CCP/EA by any of the following methods.

E-mail: FW1PlanningComments@fws.gov. Include “Guam Refuge” in the subject line of the message.

Fax: Attn: Project Leader, (671) 335-5098.

U.S. Mail: Project Leader, Guam National Wildlife Refuge, P.O. Box 8134, MOU-3, Dededo, Guam 96912.

FOR FURTHER INFORMATION CONTACT: Project Leader, (671) 355-5096.

SUPPLEMENTARY INFORMATION:

Introduction

The unincorporated U.S. territory of Guahan (Guam) is the largest and southernmost island in the Marianas Archipelago, a chain of volcanic islands in Micronesia. Guahan Island is situated in the western Pacific Ocean, approximately 3,800 miles west of Honolulu and 1,500 miles south of Tokyo. The Refuge was established in 1993. It is comprised of three units: The Andersen Air Force Base Overlay Refuge Unit, the Navy Overlay Refuge Unit (collectively, the overlay units), and the Ritidian Unit. Through cooperative agreements with the U.S. Air Force and the U.S. Navy, we manage, but do not have exclusive jurisdiction on, the lands that comprise the overlay units. The Ritidian Unit, known to Native Chamorros as Puntan Litekyan, is located on the northern tip of Guam, and encompasses 1,217 acres, including 385 terrestrial acres and 832 acres of submerged offshore area. The Ritidian Unit is the only land over which the Service has exclusive jurisdiction in Guam.

Guam's native wildlife—especially most tropical birds—are conspicuously absent, attributed in large part to the introduction of the brown treesnake (BTS), a non-native species that preys on Guam's native bird species in forested habitats. In 2004 the Service designated critical habitat for the Mariana fruit bat (Fanihi), Guam Micronesian kingfisher (Sihek), and Mariana crow (å'ga). The 385 terrestrial acres of the Ritidian Unit are the only designated critical habitat on Guam for these species.

The focus of our Guam Refuge Draft CCP/EA is the Ritidian Unit. The U.S. Air Force and the U.S Navy are preparing Integrated Natural Resource Management Plans (INRMP) that will address resource management for the overlay units. Our CCP/EA and the INRMPs will fulfill CCP requirements for all units of Guam National Wildlife Refuge.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

We began the public scoping phase of the planning process for the Draft CCP/EA by publishing a Notice of Intent in the Federal Register on July 6, 2007 (72 FR 37037), announcing our intent to complete a CCP/EA for the Refuge and inviting public comments. Our public outreach efforts are described in the following paragraphs.

In July 2007, we distributed Planning Update 1 to our project mailing list and public outlets located near the Refuge.

On July 14, 2007, we held a public scoping meeting at the Refuge office, and from July 15 through July 22, 2007, the Refuge's Visitor Center hosted an informal open house to meet the public and obtain comments on management issues. These opportunities were announced through local media via a press release, on the Refuge's Web site, and in Planning Update 1.

In November 2007, we distributed Planning Update 2, which included a summary of the comments received during the scoping period, a planning schedule, and description of the scope of the project.

Draft Alternatives We Are Considering

The Service identified and evaluated three alternatives for managing the Refuge for the next 15 years, including a No Action Alternative (Alternative A). Brief descriptions of the alternatives follow.

Alternative A (No Action)

This alternative assumes continuation of current management programs and is considered the base from which to compare the action alternatives.

Alternative B (Preferred Alternative)

This alternative describes a considerable, but short term increase in the wildlife and habitat management program on the Refuge's Ritidian Unit. The Refuge proposes to construct a multi-species barrier to greatly reduce populations of brown treesnakes, feral ungulates, and non-native pest species on the refuge. Long term maintenance of the program would be less than the program described for Alternative C. Visitor services and historical and cultural resource programs would increase under Alternative B from existing programs.

Alternative C

This alternative describes a modest initial increase in the wildlife and habitat management program on the Ritidian Unit. In it we propose to develop an ungulate barrier to reduce the number of feral ungulates on the Refuge and to conduct a moderately intense brown treesnake control program. Long term maintenance of the brown treesnake control program would require greater effort than the multi-species barrier described under Alternative B. Visitor services under Alternative C would focus on wildlife-dependent public uses only. In addition, refuge staff would increase the number of off-site environmental education programs. The historical and cultural resources program would remain relatively unchanged from existing programs.

Public Availability of Documents

In addition to the methods listed in ADDRESSES, you can obtain copies of the Draft CCP/EA on compact disk upon request from the Refuge at phone number (671) 355-5096. Copies of the Draft CCP/EA may also be reviewed at the Refuge. The Draft CCP/EA is also available for viewing and downloading on the Internet at http://www.fws.gov/guam/. Printed copies will be available for review at the following libraries: Hagåtña Library, 254 Martyr Street, Hagåtña, Guam 96910-5141; and Dededo Library, 283 West Santa Barbara Avenue, Dededo, Guam 96912.

Public Meetings

Two Public Meetings will be held to provide people an opportunity to learn more about the alternatives analyzed in the Draft CCP/EA. Public comments will be collected and recorded at the meetings. Meeting dates, times, and locations follow.

1. August 4, 2009, from 6 p.m. to 8 p.m. at the Dededo Community Center, 319 Iglesia Circle, Dededo, Guam 96929.

2. August 6, 2009, from 6 p.m. to 8 p.m. at the Hagatna Community Center, 236 East O'Brian Drive, Hagatna, Guam 96910.

Submitting Comments

Public comments are requested on the Draft CCP/EA, and will be considered and incorporated throughout the planning process. Comments on the Draft CCP/EA will be analyzed by the Service and addressed in final planning documents. All comments received from individuals become part of the official public record and may be released. Requests for such comments will be handled in accordance with the Freedom of Information Act, (5 U.S.C. 552), NEPA regulations, and Service and Department of the Interior policies and procedures.

Next Steps

We will consider the comments we receive during the current comment period and the comments we received during the earlier stages of the planning process, and address them in the final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 8, 2009.
David J. Wesley,
Acting Regional Director, Region 1, Portland, Oregon.

[FR Doc. E9-17145 Filed 7-21-09; 8:45 am]

BILLING CODE 4310-55-P